DEPARTMENT OF THE INTERIOR

National Park Service

Boundary Revision; Indiana Dunes National Lakeshore

AGENCY: National Park Service, Interior.

ACTION: Notice of boundary revision, Indiana Dunes National Lakeshore, Indiana.

SUMMARY: This notice announces a revision of the boundaries of Indiana Dunes National Lakeshore, Indiana, to include two (2) parcels of land within the boundaries of the National Lakeshore. This action is taken under the authority of 16 U.S.C., Section 460u-19 (Pub. L. 94-549, enacted October 18, 1976).

FOR FURTHER INFORMATION CONTACT: Superintendent, Indiana Dunes National Lakeshore, 1100 North Mineral Springs Road, Porter, Indiana 46304-1299, or by telephone at 219-926-7561, extension 410.

SUPPLEMENTARY INFORMATION: Notice is hereby provided that the boundaries of Indiana Dunes National Lakeshore are revised. This revision is to include certain parcels of real property situated in Lake County, Indiana, and is effective upon publication of this notice. These parcels will be donated to the United States of America and they are contiguous to the National Lakeshore boundaries. These parcels contain, in aggregate, 15.93 acres of land, more or less.

The parcels are identified as follows:

Tract 12-117 on Segment Map 12, Drawing No. 626/35,012.

Tract 13-163 on Segment Map 13, Drawing No. 626/35,013.

Both of the above-cited segment maps are dated October 16, 2002.

These maps are on file at the following locations:

U.S. Department of the Interior, National Park Service, Midwest Region, Land Resources, 1709 Jackson Street, Omaha, Nebraska 68102-2571.

Indiana Dunes National Lakeshore, 1100 North Mineral Springs Road, Porter, Indiana 46304-1299.

Dated: October 17, 2002.
William W. Schenk,
Regional Director, Midwest Region.

[FR Doc. 03-995 Filed 1-15-03; 8:45 am]

BILLING CODE 4310-70-P